DEPARTMENT OF ENERGY

Federal Energy Regulatory Commission

[Docket No. CP01-161-000]

Southern Natural Gas Company; Notice of Intent To Prepare an Environmental Assessment for the Proposed North System Expansion II Project and Request for Comments on Environmental Issues

May 21, 2001.

The staff of the Federal Energy Regulatory Commission (FERC or Commission) will prepare an environmental assessment (EA) that will discuss the environmental impacts of the North System Expansion II Project involving construction and operation of facilities by Southern Natural Gas Company (Southern) in Pickens, Jefferson, Shelby, St. Clair, Talladega, and Calhoun Counties in Alabama, and Noxubee and Lowndes Counties in Mississippi.¹ These facilities would consist of about 4.6 miles of new pipeline loop on Southern's 24-inch diameter 2nd North Main Line, replacement of about 11 miles of various diameter pipeline segments in Alabama, and requalifying pipeline segments by hydrostatic testing, and/or adding, removing, abandoning, replacing, requalifying and/or modifying appurtenant facilities within the project area. In addition, Southern proposes to add about 6,000 horsepower (hp) of compression at the existing Pell City Compressor Station in St. Clair County, Alabama. This EA will be used by the Commission in its decision-making process to determine whether the project is in the public convenience and necessity.

¹ Southern's application was filed with the Commission under section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Southern provided to landowners. This fact sheet addresses a number of typically asked questions, including the use of eminent domain and how to participate in the Commission's proceedings. It is available for viewing on the FERC Internet website (www.ferc.fed.us).

Summary of the Proposed Project

Southern wants to uprate its North Main System by adding and replacing pipeline segments, requalifying pipeline segments by hydrostatic testing, and/or adding, removing, abandoning, replacing, requalifying and/or modifying appurtenant facilities within the project area. Specifically, Southern seeks authorization to:

(a) Construct, own, and operate a total of about 4.6 miles of new pipeline loop on its 24-inch-diameter 2nd North Main Line extending from milepost (MP) 123.746 to MP 128.339 in Pickens County, Alabama (see table 1);

(b) Replace about 11 miles of various segments of the North Main Line and the Bessemer-Calera Line and Loop in Pickens, Jefferson, Shelby, St. Clair, Talladega, and Calhoun Counties, Alabama (see table 1). In conjunction with the replacement of segments of these pipelines certain segments would be tested hydrostatically in order to increase their maximum allowable operating pressure (MAOP) (see table 1);

(c) Abandon in place three 12-inch-diameter pipeline crossings of the Tombigbee River. These river crossings would be replaced by an existing 20-inch-diameter pipeline connected to both the North Main Line and North Main Loop Line. These pipelines constitute the river crossing for the North Main Line (see table 2);

(d) Install one electric-motor-driven 6,000 hp reciprocating compressor at the existing Pell City Compressor Station in St. Clair County, Alabama;

(e) Construct an interconnecting facility, the Calhoun Power Tap, at MP 370.0 on the North Main Line and North Main Loop Line, consisting of dual 18-inch taps and 1.0 mile of replacement pipeline in Calhoun County, Alabama, to provide service to Calhoun Power; and

Table 1.—Pipeline Facilities for the North System Expansion II Project
Facility | Type | Length (miles) | Mileposts | County/State
Jurisdictional—Pipeline Construction:
North Main Line (Replacement, A) | 22″ Replacement | 1.844 | 227.381-229.225 | Pickens, AL.
North Main Line (Replacement B) | 22″ Replacement | 1.073 | 240.978-242.051 | Pickens, AL.
2nd North Main Line | New 24″ Loop Pipeline | 4.613 | 123.726-128.339 | Pickens, AL.
Bessemer Calera 12″ Line | 12″ Replacement | 0.017 | 10.479-10.496 | Jefferson, AL.
Bessemer-Calera 8″ Loop Line | 12″ Replacement | 2.400 | 12.900-15.300 | Jefferson, AL.
Bessemer-Calera 8″ Loop Line (Cahaba River) | 12″ Replacement | 0.2 | 20.900-21.100 | Shelby, AL.
North Main Line (Replacement C) | 20″ Replacement | 0.496 | 354.303-354.799 | St. Clair, AL.
North Main Line (Replacement D) | 20″ Replacement | 0.169 | 355.556-355.725 | St. Clair, AL.
North Main Line (Replacement E) | 20″ Replacement | 3.140 | 356.360-359.500 | Talladega, AL.
North Main Line (Replacement F) | 20″ Replacement | 1.717 | 367.150-368.867 | Talladega/Calhoun, AL.
North Main Line (Replacement G) | 20″ Replacement | 1.050 | 369.650-370.700 | Calhoun, AL.
Pipeline Requalification:
Bassemer-Calera 12″ Line | Hydrostatic Test | 2.674 | 7.972-10.646 | Jefferson, AL.
Bessemer-Calera 8″ Loop Line | Hydrostatic Test | 2.319 | 21.013-23.332 | Shelby, AL.
North Main Line (Requalification 1) | Hydrostatic Test | 0.757 | 354.799-355.556 | St. Clair, AL.
North Main Line (Requalification 2) | Hydrostatic Test | 0.635 | 355.725-356.360 | Talladega, AL.
North Main Line (Requalification 3) | Hydrostatic Test | 1.093 | 368.710-369.803 | Calhoun, AL.
Non-Jurisdictional—Pipeline Construction:
Calhoun Power Pipeline 16″ | New Pipeline | 1.000 |  | Calhoun, AL.

Table 2.—Aboveground Facilities for the North System Expansion II Project
Facility | New/modified | Type of work | Mileposts | County/state
Jurisdictional:
Brooksville Junction | Modified | New Feed Line | 208.478 | Noxubee, MS.
M.V.G. Farm Tap 121 | Modified | Remove Farm Tap | 209.767 | Noxubee, MS.
Pugh Tap | Modified | New Check Valve | 217.500 | Noxubee, MS.
Togo Gate | Modified | Crossovers | 220.927 | Lowndes, MS.
M.V.G. Farm Tap 123 | Modified | Over-pressure Protection | 223.100 | Lowndes, MS.
Tombigbee River Crossing (Auxiliary River Crossing Line) | Modified | Disconnect and abandon line; replace Valves and Fittings | 224.189-224.350 224.550-224.606 | Lowndes, MS.
Reform Tap | Modified | Over-pressure Protection | 241.887 | Pickens, AL.
Reform Compressor Station | Modified | Tap, Pigging Facilities, Valves, Regulators, Over-Pressure Protection | 242.223 | Pickens, AL.
Crossover and Pigging Facility | New | Add New Crossover and Pigging Facilities | 123.746 | Pickens, AL.
Pleasant Grove Tap, Gate Setting and Meter Station | Modified | Tap and Tap Line | 7.972 | Jefferson, AL.
Dr. Cales Farm Tap (Abandoned pursuant to blanket certificate authorization) | Modified | Remove Taps | 8.955 | Jefferson, AL.
Bessemer Lateral Tap | Modified | Check Valve and Blind Flange | 10.429 | Jefferson, AL.
Bessemer Gate and Crossover | Modified | Replace and Remove Valves | 10.646 | Jefferson, AL.
NATCO Tap | Modified | Remove Obsolete Tap | 14.655 | Jefferson, AL.
Bessemer No. 2 Tap and Meter Station | Modified | Replace Tap and Install New Tap Line | 14.740 | Jefferson, AL.
Hopewell Block Gate | Modified | Test Crossovers | 15.537 | Jefferson, AL.
Genery Gap Tap and Meter Station | Modified | Test or Remove Taps | 19.498 | Shelby, AL.
Cahaba Field Tap | Modified | Install Blind Flange | 22.200 | Shelby, AL.
Calera Line Regulatory Station | Modified | Valve and Tap Settings | 23.332 | Shelby, AL.
Helena-Alagasco Meter Station and Tap | Modified | Relocate Taps | 23.332 | Shelby, AL.
Gas Cooler at Tarrant Compressor Station (2nd North Mail Line | Modified | Install Electric Motor Fin Fan Cooler | 321.947 | Jefferson, AL.
Compressor at Pell City Compressor Station (North Main Line/2nd North Main Line) | Modified | Install 6000 HP Electric Driven Compressor | 352.478 | St. Clair, AL.
Pell City Compressor Station Power Substation | Modified | Construct 115kV/4160V Capacity Electrical Substation | ( ¹) | St. Clair, AL.
Vincent Tap and Meter Station (North Main Line) | Modified | Monitor, Regulator and Tap Valve | 352.700 | St. Clair, AL.
Lincoln No. 2 Tap and Meter Station | Modified | Monitor, Regulator and Tap Valve | 353.834 | St. Clair, AL.
Childersburg No. 2 Tap and Meter Station | Modified | Monitor, Regulator and Tap Valve | 358.000 | Talladega, AL.
Rowe Block Gate No. 1 | Modified | Gate Setting, blowoff crossovers | 358.510 | Talladega, AL.
Lincoln Tap and Meter Station | Modified | Monitor, Regulator and Tap Valve | 360.365 | Talladega, AL.
Talladega Tap | Modified | Monitor, Regulator and Tap Valve | 361.014 | Talladega, AL.
Lincoln Block Gate | Modified | Gate Setting, blowoff crossovers | 361.666 | Talladega, AL.
Talladega Raceway Tap | Modified | Monitor, Regulator and Tap Valve | 365.385 | Talladega, AL.
Eastaboga Gate | Modified | Gate Setting | 369.078 | Calhoun, AL.
Calhoun Power Meter Station | New | Meter Station | 370.000 | Calhoun, AL.
Anniston No. 3 Tap and Meter Station | Modified | Monitor and Regulator | 371.641 | Calhoun, AL.
Coldwater Regulator Station | New | Monitor, Regulator and Block Valves | 371.852 | Calhoun, AL.
Non-Jurisdictional:
Pell City Compressor Station 115 kV Power Line | New | New 115 kV Power Line | ( ¹) | St. Clair, AL.
¹ Approximate M.P. 352.478 on Southern's North Main Line.

(f) modify several aboveground facilities in Mississippi and Alabama (see table 2).

Nonjurisdictional facilities

(a) Calhoun Power would construct certain nonjurisdictional facilities consisting of a simple cycle power generation plant, a meter station, and about 1 mile of 16-inch-diameter connecting pipeline extending from Southern's mainline to its plant. Southern would operate and maintain this connecting pipeline in Calhoun County, Alabama for Calhoun Power.

(b) Alabama Power would construct a 0.5-mile-long nonjurisdictional 115 kV transmission line to provide power to the compressor to be installed at the Pell City Compressor Station. Alabama Power would coordinate construction of this power line with the construction of the new compressor.

The location of the project facilities is shown in appendix 1.²

² The appendices referenced in this notice are not being printed in the Federal Register. Copies are available on the Commission's website at the “RIMS” link or from the Commission's Public reference and Files Maintenance Branch, 888 First Street, N.E., Washington, D.C. 20426, or call (202) 208-1371. For instructions on connecting to RIMS refer to the last page of this notice. Copies of the appendices were sent to all those receiving this notice in the mail.

Land Requirements for Construction

Construction of the proposed facilities would require about 274.5 acres of land. Following construction, about 92.5 acres of land would be restored and allowed to revert to its former use. No new permanent right-of-way is proposed by Southern except for the two new meter stations (Calhoun Meter Station and Coldwater Regulator Station) which would require a total of 8.09 acres (0.46 acre permanent and 7.63 existing permanent right-of-way).

The EA Process

The National Environmental Policy Act (NEPA) requires the Commission to take into account the environmental impacts that could result from an action whenever it considers the issuance of a Certificate of Public convenience and Necessity. NEPA also requires us ³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils

• Water resources, fisheries, and wetlands

• Vegetation and wildlife

• Endangered and threatened species

• Public safety

• Land use

• Cultural resources

• Air quality and noise

• Hazardous waste

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the commission.

To ensure your comments are considered, please carefully follow the instructions in the public participation section below.

Currently Identified Environmental Issues

We have already identified several issues that we think deserve attention based on a preliminary review of the proposed facilities and the environmental information provided by Southern. This preliminary list of issues may be changed based on your comments and our analysis.

• Eight federally listed endangered or threatened species may occur in the project area (bald eagle, red cockaded woodpecker, Cahaba shiner, finelined pocketbook mussel, flattened musk turtle, goldline darter, round rocksnail, and triangular kidneyshell mussel). With the exception of the bald eagle and red cockaded woodpecker all other federally listed species occur in the Cahaba River. Southern proposes to directionally drill the Cahaba river which would avoid impact on these species.

• The project would require three major waterbody crossings greater than 100 feet in width (Cahaba River, Coosa River, and Blue Eye Creek).

• A total of 72 residences are located within 50 feet of the construction work area, of which 50 are within 25 feet of the construction work area.

In addition, the project would involve lands owned by the City of Bessemer and the University of Alabama, the State of Alabama along the Bessemer-Calera Lines; and the property of the Alabama Development Office on the North Main Line. All of these lands are crossed by the existing pipelines.

Also, we have made a preliminary decision to not address the impacts of the nonjurisdictional facilities. We will briefly describe their location and status in the EA.

Public Participation

You can make a difference by providing us with your specific comments or concerns about the project. By becoming a commentor, your concerns will be addressed in the EA and considered by the Commission. You should focus on the potential environmental impact. The more specific your comments, the more useful they will be. Please carefully follow these instructions to ensure that your comments are received in time and properly recorded:

Send an original and two copies of your letter to: David P. Boergers, Secretary, Federal Energy Regulatory Commission, 888 First St., N.E., Room 1A, Washington, DC 20426.

• Label one copy of the comments for the attention of Gas 2.

• Refernce Docket No. CP01-161-000.

• Mail your comments so that they will be received in Washington, DC on or before June 21, 2001.

Comments may also be filed electronically via the Internet in lieu of paper. See 18 CFR 385.2001(a)(1)(iii) and the instructions on the Commission's web site at http://www.ferc.fed.us/efi/doorbell.htm under the link to the User's Guide. Before you can file comments you will need to create an account which can be created by clicking on “Login to File” and then “New User Account.”

We may mail the EA for comment. If you are interested in it, please return the information request (appendix 3).

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-13219 Filed 5-24-01; 8:45 am]

BILLING CODE 6717-01-M